RAILROAD RETIREMENT BOARD

Agency Forms Submitted for OMB Review

Summary: In accordance with the Paperwork Reduction Act of 1995 (44 U.S.C. Chapter 35), the Railroad Retirement Board (RRB) has submitted the following proposal(s) for the collection of information to the Office of Management and Budget for review and approval.

Summary of Proposal(s)

(1) Collection title: Request for Internet Services.

(2) Form(s) submitted: (N/A).

(3) OMB Number: 3220-0198.

(4) Expiration date of current OMB clearance: 05/31/2004.

(5) Type of request: Revision.

(6) Respondents: Individuals or households.

(7) Estimated annual number of respondents: 11,760.

(8) Total annual responses: 23,520.

(9) Total annual reporting hours: 1,274.

(10) Collection description: The Railroad Retirement Board collects information needed to provide customers with the ability to request a Password Request Code and subsequently, to establish an individual PIN/Password, the initial steps in providing the option of conducting transactions with the RRB on a routine basis through the Internet.

Additional Information or Comments: Copies of the forms and supporting documents can be obtained by contacting Charles Mierzwa, the agency clearance officer, at (312) 751-3363 or Charles.Mierzwa@RRB.GOV.

Comments regarding the information collection should be addressed to Ronald J. Hodapp, Railroad Retirement Board, 844 North Rush Street, Chicago, Illinois 60611-2092 or Ronald.Hodapp@RRB.GOV and to the OMB Desk Officer for the RRB, at the Office of Management and Budget, Room 10230, New Executive Office Building, Washington, DC 20503.

Charles Mierzwa,
Clearance Officer.

[FR Doc. 04-6663 Filed 3-24-04; 8:45 am]

BILLING CODE 7905-01-P